DEPARTMENT OF HOMELAND SECURITY

[Docket No. DHS-2010-0084]

Agency Information Collection Activities: Office of Infrastructure Protection; Infrastructure Protection Stakeholder Input Project

AGENCY: National Protection and Programs Directorate, DHS.

ACTION: 30-day notice and request for comments; New Information Collection Request: 1670-NEW.

SUMMARY: The Department of Homeland Security (DHS), National Protection and Programs Directorate (NPPD), Office of Infrastructure Protection (IP), will submit the following Information Collection Request to the Office of Management and Budget (OMB) for review and clearance in accordance with the Paperwork Reduction Act of 1995 (Pub. L. 104-13, 44 U.S.C. Chapter 35). IP is soliciting comments concerning this New Information Collection Request, Infrastructure Protection Stakeholder Input Project. DHS previously published this Information Collection Request in the Federal Register on November 4, 2010 at 75 FR 67989, for a 60-day public comment period. No comments were received by DHS. The purpose of this notice is to allow an additional 30 days for public comments.

DATES: Comments are encouraged and will be accepted until May 20, 2011. This process is conducted in accordance with 5 CFR 1320.10.

ADDRESSES: Interested persons are invited to submit written comments on the proposed information collection to the Office of Information and Regulatory Affairs, OMB. Comments should be addressed to the OMB Desk Officer, Department of Homeland Security, Office of Civil Rights and Civil Liberties. Comments must be identified by DHS-2010-0084 and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: DHS/NPPD/IP, Michael Beland, (703) 235-3696, Michael.Beland@dhs.gov.

SUPPLEMENTARY INFORMATION: The Homeland Security Act of 2002 and Homeland Security Presidential Directive 7 (HSPD-7) call for DHS to coordinate the overall effort to enhance the protection of the Nation's critical infrastructure and key resources (CIKR). Specifically, HSPD-7 states DHS “shall establish appropriate systems, mechanisms, and procedures to share homeland security information relevant to threats and vulnerabilities in national critical infrastructure and key resources with other Federal departments and agencies, state and local governments, and the private sector in a timely manner.” DHS designated IP to lead these efforts. Given that the vast majority of the Nation's CIKR in most sectors are privately owned or controlled, IP's success in achieving the homeland security mission for critical infrastructure protection and resilience is dependent upon how well critical infrastructure owners and operators and members of the general public understand the key concepts, are aware of their contribution to achieve a shared national goal, participate in public-private partnerships with IP and the Sector-Specific Agencies, and are motivated to take action in improving their infrastructure. IP has several products, services, and programs and works with partners at the local, state and Federal levels to achieve its mission. However, IP has never conducted a comprehensive feedback assessment with the full range of its stakeholders to identify their needs and collect their feedback on the effectiveness of IP's current products and services and how they can be improved. Additionally, the authority for the voluntary stakeholder surveys is the Government Performance and Results Act of 1993 (Pub. L. No. 103-62). “The purposes of this Act are to: * * * (3) Improve Federal program effectiveness and public accountability by promoting a new focus on results, service quality, and customer satisfaction; and (4) Help Federal managers improve service delivery, by requiring that they plan for meeting program objectives and by providing them with information about program results and service quality.” Furthermore, this information collection aligns to the requirements established by the “Government Performance Results Act (GPRA) Modernization Act of 2010” (H.R. 2142) which requires that all Federal agencies “establish a balanced set of performance indicators to be used in measuring or assessing progress toward each performance goal, including, as appropriate, customer service, efficiency, output, and outcome indicators.” Also, the Act defines customer service measure as “an assessment of service delivery to a customer, client, citizen, or other recipient, which can include an assessment of quality, timeliness, and satisfaction among other factors.”

IP is seeking clearance in this information collection request in order to better meet the requirements of GPRA and OMB. IP will use the information collected to obtain feedback from stakeholders and to monitor performance and the achievement of its strategic objectives over time. IP desires to collect information from its stakeholders in order to:

• Provide a baseline for the effectiveness of efforts to improve the security of the Nation's infrastructure;

• Assist in validating and achieving IP's strategic and mission area objectives;

• Obtain a better understanding of the evolving infrastructure protection and resiliency requirements of IP's stakeholders;

• Assess the visibility and awareness of the critical infrastructure protection and resilience mission; and

• Assess the outreach efforts by IP, sector-specific agencies, and other partners engaged in the infrastructure protection mission.

Analysis

Agency: Department of Homeland Security, National Protection and Programs Directorate.

Title: Office of Infrastructure Protection Stakeholder Input Project.

OMB Number: 1670-NEW.

IP Stakeholder Input Project—Surveys

Frequency: Annually.

Affected Public: Private industry partners, state and local government partners, and members of the Sector Coordinating Council; Government Coordinating Council; State, Local, Territorial, and Tribal Government Coordinating Council; and Regional Consortium Coordinating Council.

Number of Respondents: 3,280.

Estimated Time Per Respondent: 40 minutes.

Total Burden Hours: 2,165 annual burden hours.

Total Burden Cost (capital/startup): $0.

Total Burden Cost (operating/maintaining): $0.

Dated: April 12, 2011.
David Epperson,
Chief Information Officer, National Protection and Programs Directorate, Department of Homeland Security.

[FR Doc. 2011-9607 Filed 4-19-11; 8:45 am]

BILLING CODE 9110-9P-P